DEPARTMENT OF COMMERCE

Foreign-Trade Zones Board

[Order No. 1238]

Termination of Foreign-Trade Subzones 84D and 84G; Houston, TX

Pursuant to the authority granted in the Foreign-Trade Zones Act of June 18, 1934, as amended (19 U.S.C. 81a-81u), and the Foreign-Trade Zones Board Regulations (15 CFR Part 400), the Foreign-Trade Zones Board has adopted the following order:

Whereas, on May 6, 1991 and December 20, 1991, the Foreign-Trade Zones Board issued grants of authority to the Port of Houston Authority, authorizing the establishment of Foreign-Trade Subzone 84D at the United General Supply Co., Inc. plant in Houston, Texas (Board Order 519, 56 FR 22150, 5/14/91) and Subzone 84G at the Goodman Manufacturing Company, LP, plant in Houston, Texas (Board Order 553, 56 FR 67058, 12/27/91), respectively;

Whereas, the Port advised the Board on March 20, 2001 (FTZ Docket 48-2001), that zone procedures were no longer needed at these facilities and requested voluntary termination of Subzones 84D and 84G;

Whereas, the request has been reviewed by the FTZ Staff and the Customs Service, and approval has been recommended;

Now, therefore, the Foreign-Trade Zones Board terminates the subzone status of Subzone Nos. 84D and 84G respectively, effective this date.

Signed at Washington, DC, this 8th day of August 2002.
Faryar Shirzad,
Assistant Secretary of Commerce for Import Administration, Alternate Chairman, Foreign-Trade Zones Board.

[FR Doc. 02-20906 Filed 8-15-02; 8:45 am]

BILLING CODE 3510-DS-P